FEDERAL RETIREMENT THRIFT INVESTMENT BOARD

Sunshine Act Meeting

TIME AND DATE: 9 a.m., March 13, 2000.

PLACE: National Finance Center, TANO Building, Conference Room 7, 13800 Old Gentilly Road, New Orleans, Louisiana.

STATUS: Open.

MATTERS TO BE CONSIDERED: 1. Approval of the minutes of the February 14, 2000, Board member meeting.

2. Thrift Savings Plan activity report by the Executive Director.

3. Approval of selection criteria for C and F Fund Managers and Annuity Vendor.

CONTACT PERSON FOR MORE INFORMATION: Tom Trabucco, Director, Office of External Affairs (202) 942-1640.

Dated: February 29, 2000.
Elizabeth S. Woodruff,
General Counsel, Federal Retirement Thrift Investment Board.

[FR Doc. 00-5170 Filed 2-29-00; 1:08 pm]

BILLING CODE 6760-01-M